DEPARTMENT OF TRANSPORTATION

Federal Highway Administration

[FHWA Docket No. FHWA-98-4370]

Transportation Equity Act for the 21st Century (TEA-21); Implementation for the Transportation and Community and System Preservation Pilot Program

AGENCY: Federal Highway Administration (FHWA), DOT.

ACTION: Notice.

SUMMARY: The FHWA will not be soliciting fiscal year (FY) 2003 applications for the Transportation and Community and System Preservation Pilot Program (TCSP) Program until the Congress completes action on the FY 2003 U.S. DOT Appropriations Act. In FY 2001 and FY 2002 TCSP awards have been made to congressionally designated projects in the conference reports accompanying the FY 2001and FY 2002 U.S. DOT Appropriations Acts.

FOR FURTHER INFORMATION CONTACT: Ms. Felicia B. Young, Office of Human Environment, Planning and Environment, (HEPH), (202) 366-0106; or Mr. S. Reid Alsop, Office of the Chief Counsel, HCC-30, (202) 366-1371; Federal Highway Administration, 400 Seventh Street SW., Washington, DC 20590. Office hours are from 8 a.m. to 5 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's home page at: http://www.nara.gov/fedreg and the Government Printing Office's database at: http://www.access.gpo.gov/nara. Information is also available on the FHWA TCSP Web page: http://www.fhwa.dot.gov/tcsp/docs.html.

Background

Section 1221 of the Transportation Equity Act for the 21st Century (TEA-21) (Public Law 105-178, 112 Stat. 107 (1998)) established the Transportation and Community and System Preservation Pilot Program (TCSP). The TCSP provides funding for planning grants, implementation grants, and research to investigate and address the relationship between transportation and community and system preservation. The TEA-21 authorized funding for the TCSP at the levels of $20 million in FY 1999 and $25 million per year for FY 2000 through 2003. These funds are subject to the obligation limitation.

In response to the Federal Register notices issued by the FHWA between FY 1999 and FY2002, a total of 1,332 applications totaling $906.4 million were submitted to the TCSP between FY 1999 and FY 2002 from all 50 States, the District of Columbia, and the Commonwealth of Puerto Rico. This number includes 524 letter of intent applications in FY 1999, of which 35 received funding. Of the total number of submitted applications, 80 projects from 45 States and the District of Columbia received TCSP funding. The remaining 1,025 projects totaling $722.4 million have not received TCSP funding. In FY 2001 and 2002, TCSP awards were made to projects designated by Congressional appropriation committees in the reports accompanying the U.S. DOT Appropriations Act for those fiscal years. See H. Rep. No. 106-940 at 108-109 (October 5, 2000) and H.R. Conf. Rep. No. 106-1033 at 452 (December 15, 2000). Notwithstanding the increase in TCSP funding for FY 2002, the FHWA maintains an abundant number of applications for TCSP funding.

Accordingly, in light of the number of unawarded applications and possible further Congressional designations in FY 2003, the FHWA does not intend to solicit applications for the TCSP Pilot Program until the Congress completes action on the FY 2003 U.S. DOT Appropriations Act.

(Authority: 23 U.S.C. 315; sec. 1221, Pub. L. 105-178, 112 Stat. 107, 221 (1998); 49 CFR 1.48).

Issued on: February 4, 2002.
Mary E. Peters,
Federal Highway Administrator.

[FR Doc. 02-3218 Filed 2-8-02; 8:45 am]

BILLING CODE 4910-22-P